ENVIRONMENTAL PROTECTION AGENCY

[FRL-8726-9]

Clean Water Act Section 303(d): Final Agency Action on 30 Total Maximum Daily Loads (TMDLs) in Louisiana

AGENCY: Environmental Protection Agency (EPA).

ACTION: Notice of availability.

SUMMARY: This notice announces final agency action on 30 TMDLs prepared by EPA Region 6 for waters listed in Louisiana's Terrebonne River Basin, under section 303(d) of the Clean Water Act (CWA). Documents from the administrative record file for the 30 TMDLs, including TMDL calculations and responses to comments, may be viewed at http://www.epa.gov/region6/water/npdes/tmdl/index.htm. The administrative record file may be examined by calling or writing Ms. Diane Smith at the address below. Please contact Ms. Smith to schedule an inspection.

FOR FURTHER INFORMATION CONTACT: Diane Smith, Environmental Protection Specialist, Water Quality Protection Division, U.S. EPA Region 6, 1445 Ross Avenue, Dallas, TX 75202-2733, (214) 665-2145.

SUPPLEMENTARY INFORMATION: In 1996, two Louisiana environmental groups, the Sierra Club and Louisiana Environmental Action Network (plaintiffs), filed a lawsuit in Federal Court against the EPA, styled Sierra Club, et al. v. Clifford et al., No. 96-0527, (E.D. La.). Among other claims, plaintiffs alleged that EPA failed to establish Louisiana TMDLs in a timely manner.

EPA Takes Final Agency Action on 30 TMDLs

By this notice EPA is taking final agency action on the following 30 TMDLs for waters located within the Terrebonne River basin:

Subsegment | Waterbody name | Pollutant
120102 | Bayou Poydras | Dissolved Oxygen and Nutrients.
120103 | Bayou Choctaw | Dissolved Oxygen, Nutrients, Nitrogen, and Phosphorus.
120105 | Chamberlin Canal | Dissolved Oxygen, Nutrients, Nitrogen, and Phosphorus.
120106 | Bayou Plaquemine | Dissolved Oxygen and Nutrients.
120107 | Upper Grand River and Lower Flat River—Headwaters to Intracoastal Waterway | Dissolved Oxygen
120109 | Intracoastal Waterway—in Morgan City to Port Allen Route—Port Allen Locks to Bayou Sorrel Locks | Dissolved Oxygen and Nutrients
120110 | Bayou Cholpe—Headwaters to Bayou Choctaw | Dissolved Oxygen.
120202 | Bayou Black—Intracoastal Waterway to Houma | Dissolved Oxygen and Nutrients.
120204 | Lake Verret and Grassy Lake | Dissolved Oxygen and Nutrients.
120304 | Intracoastal Waterway—Houma to Larose | Dissolved Oxygen and Nutrients.
120403 | Intracoastal Waterway—Bayou Boeuf | Dissolved Oxygen.
120604 | Bayou Blue—Intracoastal Waterway to boundary between segments 1206 and 1207 | Dissolved Oxygen.
120401 | Bayou Penchant—Bayou Chene to Lake Penchant | Dissolved Oxygen.
120404 | Lake Penchant | Dissolved Oxygen.
120405 | Lake Hatch and Lake Theriot | Dissolved Oxygen and Nutrients.
120406 | Lake de Cade | Dissolved Oxygen and Nutrients.

EPA requested the public to provide EPA with any significant data or information that might impact the 30 Final TMDLs in the Federal Register Notice: Volume 73, Number 167, pages 50610 and 50611 (August 27, 2008). The comments which were received, the EPA's response to comments, and the final TMDLs may be found at http://www.epa.gov/region6/water/npdes/tmdl/index.htm.

Dated: September 30, 2008.
William K. Honker,
Deputy Director, Water Quality Protection Division, EPA Region 6.

[FR Doc. E8-23868 Filed 10-7-08; 8:45 am]

BILLING CODE 6560-50-P